DEPARTMENT OF THE INTERIOR

Bureau of Land Management

[LLES956000.L19100000.BK0000.LRCMM0E04175]

Eastern States: Filing of Plats of Survey; Mississippi

AGENCY: Bureau of Land Management, Interior.

ACTION: Notice.

SUMMARY: The Bureau of Land Management (BLM) will file the plats of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Dominica Van Koten. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: These surveys were requested by the Bureau of Indian Affairs, Eastern Regions.

The lands surveyed are:

Choctaw Meridian, Mississippi

T. 11 N., R. 11 E.

The dependent resurvey of a portion of the West Boundary, a portion of the subdivisional lines, and the subdivision of Sections 18 and 19, in Township 11 North, Range 11 East, of the Choctaw Meridian, in the State Mississippi, and was accepted September 20, 2012.

We will place copies of the plats we described in the open files. They will be available to the public as a matter of information.

If BLM receives a protest against a survey, as shown on the plat, prior to the date of the official filing, we will stay the filing pending our consideration of the protest.

We will not officially file the plats until the day after we have accepted or dismissed all protests and they have become final, including decisions on appeals.

Dated: November 2, 2012.
Dominica Van Koten,
Chief Cadastral Surveyor.

[FR Doc. 2012-27347 Filed 11-8-12; 8:45 am]

BILLING CODE 4310-GJ-P